DEPARTMENT OF COMMERCE

International Trade Administration

[A-570-848]

Freshwater Crawfish Tail Meat From the People's Republic of China: Final Results of Administrative Antidumping Duty and New Shipper Reviews, and Final Rescission of New Shipper Review

AGENCY: Import Administration, International Trade Administration, U.S. Department of Commerce.

ACTION: Notice of Final Results of Administrative and New Shipper Reviews, and Rescission of New Shipper Review: Freshwater Crawfish Tail Meat from the People's Republic of China.

SUMMARY: On October 12, 1999, the Department of Commerce (the Department) published the preliminary results of its administrative and new shipper reviews of the antidumping duty order on freshwater crawfish tail meat from the People's Republic of China (PRC). The administrative review covers the period March 26, 1997 through August 31, 1998 with the exception of the administrative review of Ningbo Nanlian Frozen Foods Co., Ltd. (Ningbo Nanlian) which covers the period April 1, 1998 through August 31, 1998.

Based on our analysis of the comments received, we have made changes to the margin calculations. Therefore, the final results differ from the preliminary results. The final weighted-average dumping margins for the reviewed firms are listed below in the section entitled “Final Results of Review.”

EFFECTIVE DATE: April 19, 2000.

FOR FURTHER INFORMATION CONTACT: Thomas Gilgunn, Sarah Ellerman, Mike Strollo, or Maureen Flannery, Antidumping/Countervailing Duty Enforcement, Import Administration, International Trade Administration, U.S. Department of Commerce, 14th Street and Constitution Avenue, NW, Washington DC 20230; telephone (202) 482-0648, (202) 482-4106, (202) 482-5255 and (202) 482-3020, respectively.

Applicable Statute

Unless otherwise indicated, all citations to the statute are references to the provisions effective January 1, 1995, the effective date of the amendments made to the Tariff Act of 1930 (the Act) by the Uruguay Round Agreements Act. In addition, unless otherwise indicated, all citations to the Department's regulations are to the provisions codified at 19 CFR part 351 (1998).

Background

On October 12, 1999, the Department published the preliminary results of review of the antidumping duty order on freshwater crawfish tail meat from the PRC (64 FR 8543). On November 12, 1999, we received comments from respondents Nantong Delu Aquatic Food Co., Ltd. (Nantong Delu), Yancheng Foreign Trade Corporation (Yancheng FTC), and Ocean Harvest Wholesale Inc., an importer. On November 24, 1999, we received comments from respondents Qingdao Rirong and Lianyungang Haiwang, Baolong Biochemical, and Ningbo Nanlian, and from Maritime Trading Company, an importer. On November 24, 1999 we also received comments on behalf of the following interested parties: Worldwide Link, Inc., Captain Charlie Seafood Wholesale Co., U.S.A., Ocean Duke, Boston Seafood Processors, Maritime Trading, COB Development Corp., Atlantic Gem, Neptune Fisheries, Pacific Giant, and Intraco, all importers; and Huaiyin Foreign Trade Corporation (30) (HFTC30), an exporter. We also received comments from the petitioner, the Crawfish Processors Alliance (CPA). On December 8, 1999, we received rebuttal comments.

On February 3, 2000, we issued questionnaires to certain interested parties regarding possible relationships among certain producers and exporters of subject merchandise. On February 17, 2000, we received responses. From February 22 through March 3, 2000, we conducted verification of this information in China, and met with various Chinese government entities and U.S. embassy staff in China. Huaiyin Foreign Trade Corporation (5) (HFTC5) did not allow Department officials to meet with HFTC5 officials or conduct a verification of its response. We also conducted a telephone interview with Yancheng Yaou Seafood Co., Ltd. (Asia-Europe), formerly known as Yancheng Baolong Aquatic Foods Co., Ltd. On March 20, 2000, we received timely comments from several interested parties regarding the Department's memoranda detailing these verifications and meetings, and our attempts to conduct verification of HFTC5. On March 23, 2000, the Department conducted a public hearing on the issues presented by interested parties in their November 24, 1999 case briefs, their December 8, 1999 rebuttal briefs, and their March 20, 2000 comments regarding the Department's memoranda.

The Department has now completed these reviews in accordance with section 751 of the Act.

Scope of Review

The product covered by this review is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 0306.19.00.10 and 0306.29.00.00. The HTS subheadings are provided for convenience and Customs purposes only. The written description of the scope of this order is dispositive.

Analysis of Comments Received

All issues raised in the case and rebuttal briefs by parties to this administrative review are addressed in the “Issues and Decision Memorandum” (Decision Memo) from Edward C. Yang, Director, Office 9, to Joseph A. Spetrini, Acting Assistant Secretary for Import Administration, dated April 7, 2000, which is hereby adopted by this notice. A list of the issues which parties have raised and to which we have responded, all of which are in the Decision Memo, is attached to this notice as an appendix. Parties can find a complete discussion of all issues raised in this review and the corresponding recommendations in this public memorandum which is on file in the Central Records Unit, room B-099 of the main Department building (B-099). In addition, a complete version of the Decision Memo can be accessed directly on the Web at www.ita.doc.gov/import_admin/records/frn/. The paper copy and electronic version of the Decision Memo are identical in content.

Rescission of New Shipper Review for Baolong Biochemical

In our preliminary results, we concluded that Baolong Biochemical did not have a bona fide sale to the United States during the review period, and thus was not entitled to a review under section 751(a)(2)(B) of the Act. For a further discussion of these issues, see the relevant sections of the Decision Memo. See also Memorandum to Robert S. LaRussa from Barbara E. Tillman: Issues for the Preliminary Results of Review Concerning Bona Fide Sales and the Use of Facts Available (Facts Available Memorandum), dated September 30, 1999. We subsequently clarified for all parties that this rescission was a preliminary determination and that the Department would accept comments on this issue. After reviewing the comments received with respect to Baolong Biochemical, we have concluded that our preliminary determination was appropriate and, because Baolong Biochemical has no bona fide sales during the period of review, we are rescinding the new shipper review of Baolong Biochemical. We will instruct the Customs Service to require the posting of cash deposits, rather than bond, for imports of crawfish exported by Baolong Biochemical.

Use of Facts Available

For a discussion of our application of facts otherwise available, see the “Facts Available” section of the Decision Memo, which is on file in B-099 and available on the Web at www.ita.doc.gov/import_admin/records/frn/.

Changes Since the Preliminary Results

Based on our analysis of comments received, we have made certain changes in the margin calculations for Qingdao Rirong. Any alleged programming or clerical errors are discussed in the relevant sections of the “Decision Memorandum,” accessible in B-099 and on the Web at www.ita.doc.gov/import_admin/records/frn/.

Ningbo Nanlian

Based on an analysis of the record, we have determined that Ningbo Nanlian does not merit a separate rate. For a discussion of this issue, see the section of the Decision Memo entitled “Facts Available for Ningbo Nanlian” and the proprietary version of the Memorandum from Edward C. Yang to Joseph A. Spetrini regarding “Relationship of HFTC5 and Ningbo Nanlian,” dated April 7, 2000 (Ningbo Nanlian/HFTC5 Decision Memo.)

HFTC Entities

Based on our analysis of comments received, we have concluded the following. The HFTC entity now known as HFTC5, a.k.a. Huaiyin Cereals and Oils Import and Export Corporation, is the same HFTC entity that was assigned a separate rate in the LFTV investigation.

The Department has also determined that, since HFTC30 has not requested a separate rate, HFTC30 is not entitled to a separate rate in this review. However, all Chinese crawfish exporters not specifically named, including HFTC30, were subject to the review as part of the PRC entity of which they are considered part. Their rate is 201.63 percent.

Final Results of Review

We determine that the following weighted-average margins exist for the period March 26, 1997 through August 31, 1998:

Manufacturer/exporter | Time period | Margin (percent)
Qingdao Rirong Foodstuff Co., Ltd. | 03/26/97-08/31/98 | 0.00
Lianyungang Haiwang Aquatic Products Co., Ltd. | 03/26/97-08/31/98 | 201.63
PRC-wide rate ¹ |  | 201.63
¹ Binzhou Prefecture Foodstuffs Import & Export Corp., Huaiyin Foreign Trade Corp., Huaiyin Foreign Trade Corporation (5) (also known as Huaiyin Cereals, Oils & Foodstuffs), Huaiyin Foreign Trade Corporation (30), Huaiyin Ningtai Fisheries Co., Ltd., Nantong Delu Aquatic Food Co., Ltd., Ningbo Nanlian Frozen Foods Co., Ltd. (for the period 4/1/98-8/31/98), Yancheng Baolong Aquatic Foods Co., Ltd., and Yancheng Baolong Foreign Trade Corp. are subject to the PRC-wide rate of 201.63%.

Cash Deposit Requirements

The following deposit requirements will be effective upon publication of this notice of final results of administrative review for all shipments of freshwater crawfish tail meat from the PRC entered, or withdrawn from warehouse, for consumption on or after the date of publication, as provided by section 751(a)(2)(C) of the Act: (1) The cash deposit rates for the reviewed companies will be the rates shown above except that, for firms whose weighted-average margins are less than 0.5 percent and therefore de minimis, the Department shall require no deposit of estimated antidumping duties; (2) for previously-reviewed PRC and non-PRC exporters with separate rates, the cash deposit rate will be the company-specific rate established for the most recent period; (3) for all other PRC exporters, the cash deposit rate will be the PRC-wide rate, 201.63 percent; and (4) for all other non-PRC exporters of the subject merchandise, the cash deposit rate will be the rate applicable to the PRC supplier of that exporter.

These deposit requirements shall remain in effect until publication of the final results of the next administrative review.

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

We are issuing and publishing this determination and notice in accordance with sections 751 and 777(i) of the Act.

Dated: April 7, 2000.
Joseph A. Spetrini,
Acting Assistant Secretary for Import Administration.

Appendix I

1. Facts Available

A. Non-Respondents and Improperly Filed and Served Responses

B. Haiwang

C. Ningbo Nanlian

D. HFTC5

2. Recission of the New Shipper Review of Yancheng Baolong Biochemical Products (Baolong Biochemical)

3. Circumstance of Sale Adjustments: Imputed Credit Expense

4. Factor Valuation

5. Deposit and Assessment Rates for HFTC30 and other companies with Huaiyin Foreign Trade Corporation in their title.

[FR Doc. 00-9824 Filed 4-18-00; 8:45 am]

BILLING CODE 3510-DS-P